Title 3—

The President

Proclamation 8639 of March 24, 2011

100th Anniversary of the Triangle Shirtwaist Factory Fire

By the President of the United States of America

A Proclamation

On March 25, 1911, a fire spread through the cramped floors of the Triangle Shirtwaist Factory in lower Manhattan. Flames spread quickly through the 8th, 9th, and 10th floors—overcrowded, littered with cloth scraps, and containing few buckets of water to douse the flames—giving the factory workers there little time to escape. When the panicked workers tried to flee, they encountered locked doors and broken fire escapes, and were trapped by long tables and bulky machines. As bystanders watched in horror, young workers began jumping out of the windows to escape the inferno, falling helplessly to their deaths on the street below.

By the time the fire was extinguished, nearly 150 individuals had perished in an avoidable tragedy. The exploited workers killed that day were mostly young women, recent immigrants of Jewish and Italian descent. The catastrophe sent shockwaves through New York City and the immigrant communities of Manhattan’s Lower East Side, where families struggled to recognize the charred remains of their loved ones in makeshift morgues. The last victims were officially identified just this year.

A century later, we reflect not only on the tragic loss of these young lives, but also on the movement they inspired. The Triangle factory fire was a galvanizing moment, calling American leaders to reexamine their approach to workplace conditions and the purpose of unions. The fire awakened the conscience of our Nation, inspiring sweeping improvements to safety regulations both in New York and across the United States. The tragedy strengthened the potency of organized labor, which gave voice to previously powerless workers. A witness to the fire, Frances Perkins carried the gruesome images of that day through a lifetime of advocacy for American workers and into her role as the Secretary of Labor and our country’s first female Cabinet Secretary.

Despite the enormous progress made since the Triangle factory fire, we are still fighting to provide adequate working conditions for all women and men on the job, ensure no person within our borders is exploited for their labor, and uphold collective bargaining as a tool to give workers a seat at the tables of power. Working Americans are the backbone of our communities and power the engine of our economy. As we mark the anniversary of the Triangle Shirtwaist Factory Fire, let us resolve to renew the urgency that tragedy inspired and recommit to our shared responsibility to provide a safe environment for all American workers.

NOW, THEREFORE, I, BARACK OBAMA, President of the United States of America, by virtue of the authority vested in me by the Constitution and the laws of the United States, do hereby proclaim March 25, 2011, as the 100th Anniversary of the Triangle Shirtwaist Factory Fire. I call upon all Americans to participate in ceremonies and activities in memory of those who have been killed due to unsafe working conditions.

IN WITNESS WHEREOF, I have hereunto set my hand this twenty-fourth day of March, in the year of our Lord two thousand eleven, and of the Independence of the United States of America the two hundred and thirty-fifth.

[FR Doc. 2011-7497

Filed 3-28-11; 8:45 am]

Billing code 3195-W1-P